DEPARTMENT OF COMMERCE

National Oceanic and Atmospheric Administration

RIN 0648-XC956

Marine Mammals; File No. 17030

AGENCY: National Marine Fisheries Service (NMFS), National Oceanic and Atmospheric Administration (NOAA), Commerce.

ACTION: Notice; receipt of application.

SUMMARY: Notice is hereby given that C. Scott Baker, Ph.D., Oregon State University, Marine Mammal Institute, Hatfield Marine Science Center, 2030 SE Marine Science Drive, Newport, OR 97365, has applied in due form for a permit to receive, import, and export marine mammals specimens for scientific research.

DATES: Written, telefaxed, or email comments must be received on or before December 5, 2013.

ADDRESSES: The application and related documents are available for review by selecting “Records Open for Public Comment” from the Features box on the Applications and Permits for Protected Species (APPS) home page, https://apps.nmfs.noaa.gov, and then selecting File No. 17030 from the list of available applications.

These documents are also available upon written request or by appointment in the following offices:

Permits and Conservation Division, Office of Protected Resources, NMFS, 1315 East-West Highway, Room 13705, Silver Spring, MD 20910; phone (301) 427-8401; fax (301) 713-0376; and Northwest Region, NMFS, 7600 Sand Point Way NE., BIN C15700, Bldg. 1, Seattle, WA 98115-0700; phone (206) 526-6150; fax (206) 526-6426.

Written comments on these applications should be submitted to the Chief, Permits and Conservation Division, at the address listed above. Comments may also be submitted by facsimile to (301)713-0376, or by email to NMFS.Pr1Comments@noaa.gov. Please include File No. 17030 in the subject line of the email comment.

Those individuals requesting a public hearing should submit a written request to the Chief, Permits and Conservation Division at the address listed above. The request should set forth the specific reasons why a hearing on this application would be appropriate.

FOR FURTHER INFORMATION CONTACT: Amy Sloan or Jennifer Skidmore, (301)427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The applicant requests a permit to import, export and archive marine mammal parts (including DNA) collected legally from any species of cetaceans and pinnipeds, except walrus, for the purposes of scientific research. The proposed import, export and possession of samples is intended to result in an improved understanding of the taxonomy, genetic diversity, population structure, abundance and individual movement of cetaceans and pinnipeds. The anticipated source of samples includes hard and soft tissue from the following: museum collections; non-invasive sampling and biopsy sampling in the wild under separate permits; beachcast or dead-stranded specimens; individuals taken incidentally in fisheries (bycatch), including products legally sold in wildlife and fisheries markets. Possession, import, and export of samples are opportunistic and no takes of live animals is requested under this permit. Import and export are requested to include all countries with an appropriate management authority (e.g., Parties of the Convention on Trade in Endangered Species). The requested period of the permit is five years.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of the application to the Marine Mammal Commission and its Committee of Scientific Advisors.

Dated: October 31, 2013.
P. Michael Payne,
Chief, Permits and Conservation Division, Office of Protected Resources, National Marine Fisheries Service.

[FR Doc. 2013-26466 Filed 11-4-13; 8:45 am]

BILLING CODE 3510-22-P